DEPARTMENT OF HEALTH AND HUMAN SERVICES

Centers for Medicare & Medicaid Services

[Document Identifier: CMS-10550 and CMS-10551]

Agency Information Collection Activities: Proposed Collection; Comment Request

AGENCY: Centers for Medicare & Medicaid Services, HHS.

ACTION: Notice.

SUMMARY: The Centers for Medicare & Medicaid Services (CMS) is announcing an opportunity for the public to comment on CMS' intention to collect information from the public. Under the Paperwork Reduction Act of 1995 (the PRA), federal agencies are required to publish notice in the Federal Register concerning each proposed collection of information (including each proposed extension or reinstatement of an existing collection of information) and to allow 60 days for public comment on the proposed action. Interested persons are invited to send comments regarding our burden estimates or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

DATES: Comments must be received by May 19, 2015.

ADDRESSES: When commenting, please reference the document identifier or OMB control number. To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development Attention: Document Identifier/OMB Control Number ____, Room C4-26-05, 7500 Security Boulevard, Baltimore, Maryland 21244-1850.

To obtain copies of a supporting statement and any related forms for the proposed collection(s) summarized in this notice, you may make your request using one of following:

1. Access CMS' Web site address at http://www.cms.hhs.gov/PaperworkReductionActof1995.

2. Email your request, including your address, phone number, OMB number, and CMS document identifier, to Paperwork@cms.hhs.gov.

3. Call the Reports Clearance Office at (410) 786-1326.

FOR FURTHER INFORMATION CONTACT: Reports Clearance Office at (410) 786-1326.

SUPPLEMENTARY INFORMATION:

Contents

This notice sets out a summary of the use and burden associated with the following information collections. More detailed information can be found in each collection's supporting statement and associated materials (see ADDRESSES).

CMS-10550 Hospital National Provider Survey

CMS-10551 Nursing Home National Provider Survey

Under the PRA (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA requires federal agencies to publish a 60-day notice in the Federal Register concerning each proposed collection of information, including each proposed extension or reinstatement of an existing collection of information, before submitting the collection to OMB for approval. To comply with this requirement, CMS is publishing this notice.

Information Collection

1. Type of Information Collection Request: New collection (Request for a new OMB control number); Title of Information Collection: Hospital National Provider Survey; Use: Section 3104 of the Patient and Protection and Affordable Care Act (ACA) requires that the Secretary of the Department of Health and Human Services (HHS) conduct an assessment of the quality and efficiency impact of the use of endorsed measures in specific Medicare quality reporting and incentive programs. The ACA further specifies that the initial assessment must occur no later than March 1, 2012, and once every 3 years thereafter. This planned data collection activity was developed and tested as part of the 2015 Impact Report and data collection will be conducted for reporting in the 2018 Impact Report.

There are two modes of data collection with hospital quality leaders: (1) A semi-structured qualitative interview and (2) a standardized survey. The data from the qualitative interviews and standardized surveys will be analyzed to provide us with information on the quality and efficiency impact of measures that we use to assess care in the hospital inpatient and outpatient settings. The surveys seek to understand whether the use of performance measures has led to changes in provider behavior, and where undesired effects are occurring as a result of implementing quality and efficiency measures. The survey will also help identify characteristics associated with high performance, which if understood, could be used to leverage improvements in care among lower performing hospitals. The focus of the survey is to assess the impacts of the measures that we use in the context of public reporting (pay-for-reporting) and value-based purchasing programs. Form Number: CMS-10550 (OMB control number: 0938-NEW); Frequency: Occasionally; Affected Public: Private Sector (Business or other for-profit and Not-for-profit institutions); Number of Respondents: 940; Total Annual Responses: 940; Total Annual Hours: 639. (For policy questions regarding this collection contact Noni Bodkin at 410-786-7837.)

2. Type of Information Collection Request: New collection (Request for a new OMB control number); Title of Information Collection: Nursing Home National Provider Survey; Use: Section 3104 of the Patient and Protection and Affordable Care Act (ACA) requires that the Secretary of the Department of Health and Human Services (HHS) conduct an assessment of the quality and efficiency impact of the use of endorsed measures in specific Medicare quality reporting and incentive programs. The ACA further specifies that the initial assessment must occur no later than March 1, 2012, and once every 3 years thereafter. This planned data collection activity was developed and tested as part of the 2015 Impact Report and data collection will be conducted for reporting in the 2018 Impact Report.

There are two modes of data collection with nursing home quality leaders: (1) A semi-structured qualitative interview and (2) a standardized survey. The data from the qualitative interviews and standardized surveys will be analyzed to provide us with information on the quality and efficiency impact of measures that we use to assess care in nursing homes delivering skilled nursing care. The surveys seek to understand whether the use of performance measures has led to changes in provider behavior (both at the nursing home-level and at the frontline of care), and whether undesired effects are occurring as a result of implementing quality and efficiency measures. The survey will also help identify characteristics associated with high performance, which if understood, could be used to leverage improvements in care among lower performing nursing homes. The focus of the survey is to assess the impacts of the measures that we use in the context of public reporting (pay-for-reporting) and quality improvement. Form Number: CMS-10551 (OMB control number: 0938-NEW); Frequency: Occasionally; Affected Public: Private Sector (Business or other for-profit and Not-for-profit institutions); Number of Respondents: 940; Total Annual Responses: 940; Total Annual Hours: 639. (For policy questions regarding this collection contact Noni Bodkin at 410-786-7837.)

Dated: March 17, 2015.
William N. Parham, III,
Director, Paperwork Reduction Staff, Office of Strategic Operations and Regulatory Affairs.

[FR Doc. 2015-06408 Filed 3-19-15; 8:45 am]

BILLING CODE 4120-01-P